DEPARTMENT OF ENERGY

Federal Energy Regulatory Commission

[Project No. 2351-017]

Public Service Company of Colorado; Notice Revising Precedural Schedule

On January 25, 2013, the Commission issued a public Notice of Application Accepted for Filing, Soliciting Motions to Intervene and Protests, Ready for Environmental Analysis, and Soliciting Comments, Recommendations, Preliminary Terms and Conditions, and Preliminary Fishway Prescriptions for the relicensing of the Public Service Company of Colorado's Cabin Creek Pumped Storage Project No. 2351, located on the South Clear Creek and its tributary Cabin Creek in Clear Creek County, Colorado. The project, as currently licensed, is located on 267 acres of U.S. Forest Service lands within the Arapahoe National Forest.

The procedural schedule published in the prior notice has been revised due to an error. The application will be processed according to the following revised Hydro Licensing Schedule. Revisions to the schedule may be made as appropriate.

Milestone | Target date
Ready for Environmental Analysis and Application Acceptance | Friday, January 25, 2013.
Comments, Interventions, recommendations, prescriptions due | Tuesday, March 26, 2013.
Requests 401 Certification | Tuesday, March 26, 2013.
Reply Comments due | Friday, May 10, 2013.
Issue single EA | Wednesday, July 24, 2013.
Comments on EA due | Friday, August 23, 2013.
Modified 4(e) and Fishway Prescriptions | Tuesday, October 22, 2013.

Dated: March 7, 2013.
Kimberly D. Bose,
Secretary.

[FR Doc. 2013-05944 Filed 3-14-13; 8:45 am]

BILLING CODE 6717-01-P